DEPARTMENT OF ENERGY

Federal Energy Regulatory Commission

[Project No. 2955-011]

City of Watervliet; Notice of Denial of Water Quality Certification

On February 28, 2020, the City of Watervliet (the City) filed an application for a license for the Normanskill Hydroelectric Project (project) in the above captioned docket. The City filed with the New York State Department of Environmental Conservation (New York DEC) a request for water quality certification for the project under section 401(a)(1) of the Clean Water Act on July 12, 2021. On July 7, 2022, the New York DEC denied certification for the project. Pursuant to 40 CFR 121.8, we are providing notice that New York DEC's denial satisfies the requirements of 40 CFR 121.7(e).

Dated: July 20, 2022.
Debbie-Anne A. Reese,
Deputy Secretary.

[FR Doc. 2022-16000 Filed 7-25-22; 8:45 am]

BILLING CODE 6717-01-P